ENVIRONMENTAL PROTECTION AGENCY

[FRL-8785-8]

Science Advisory Board Staff Office; Notification of a Public Meeting of the Science Advisory Board (SAB)

AGENCY: Environmental Protection Agency (EPA).

ACTION: Notice.

SUMMARY: The Environmental Protection Agency (EPA) Science Advisory Board (SAB) Staff Office announces a public meeting of the Chartered SAB to: discuss EPA's long range strategic research directions, discuss the FY 2010 EPA research budget, and plan for future SAB activities including the SAB's plan for conducting a study and delivering advice on strengthening science assessments at the EPA.

DATES: The public meeting will be held on Thursday, April 23, 2009 from 8:30 a.m. to 5 p.m. (Eastern Daylight Time) and Friday, April 24, 2009 from 8 a.m. to 2 p.m. (Eastern Daylight Time).

ADDRESSES: The meeting will be held at the Westin Arlington Gateway Hotel, 801 N. Glebe Road, Arlington, VA 22203; phone (703) 717-6200.

FOR FURTHER INFORMATION CONTACT: Any member of the public who wants further information concerning the teleconference meeting may contact Mr. Thomas Miller, Designated Federal Officer (DFO), EPA Science Advisory Board (1400F), U.S. Environmental Protection Agency, 1200 Pennsylvania Avenue, NW., Washington, DC 20460; via telephone/voice mail (202) 343-9982; fax (202) 233-0643; or e-mail at miller.tom@epa.gov. General information concerning the SAB can be found on the EPA Web site at http://www.epa.gov/sab.

SUPPLEMENTARY INFORMATION:

Background: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: (1) Strategic Research Vision: The purpose of this meeting will be to allow the Chartered SAB to discuss with Agency representatives the strategic research directions of EPA's Office of Research and Development over the next 10 years. These discussions will permit consideration of the overall strategic direction of the program in relation to EPA's overall mission, as well as permit the evaluation of smaller components of the total program as they fit into the total program. (2) Research Budget: If the President's FY 2010 budget is released prior to this meeting, the SAB will consider that budget and how it relates to the overall goals of EPA and the EPA strategic research directions. The SAB has reviewed the EPA research budget request each year for over twenty years and provides written advice to the EPA Administrator and, when requested, provides testimony to the U.S. Congress on how the budget might contribute to the achievement of EPA's overall research goals. (3) SAB Future Activities: The Board will discuss future advisory activities including a draft plan for a study to develop advice to EPA on strengthening its science assessment program for key areas of EPA's mission.

Availability of Meeting Materials: A meeting agenda, charge questions and other materials for the meeting will be placed on the SAB Web site at http://yosemite.epa.gov/sab/sabpeople.nsf/WebCommittees/BOARD.

Procedures for Providing Public Input: Interested members of the public may submit relevant written or oral information for consideration on the topics included in this advisory activity. Oral Statements: To be placed on the public speaker list for the April 23-24, 2009 meeting, interested parties should notify Mr. Thomas Miller, DFO, by e-mail no later than April 16, 2009. Individuals making oral statements will be limited to three minutes per speaker. Written Statements: Written statements for the April 23-24, 2009 meeting should be received in the SAB Staff Office by April 16, 2009, so that the information may be made available to the SAB for its consideration prior to this meeting. Written statements should be supplied to the DFO in the following formats: One hard copy with original signature and one electronic copy via e-mail (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Mr. Miller at the phone number or e-mail address noted above, preferably at least ten days prior to the teleconference, to give EPA as much time as possible to process your request.

Dated: March 17, 2009.
Anthony F. Maciorowski,
Deputy Director, EPA Science Advisory Board Staff Office.

[FR Doc. E9-6256 Filed 3-20-09; 8:45 am]

BILLING CODE